DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on February 1, 2021, through February 28, 2021. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Diana Espinosa,
Acting Administrator.

List of Petitions Filed

1. Makaylah Kelly, Englewood, Colorado Court of Federal Claims No: 21-0827V

2. Evelyn Ashford, Washington, District of Columbia, Court of Federal Claims No: 21-0828V

3. David K. McQuinn, Washington, District of Columbia, Court of Federal Claims No: 21-0829V

4. Laura O'Hara, Spring, Texas, Court of Federal Claims No: 21-0830V

5. Peter Weil, Madison, Wisconsin, Court of Federal Claims No: 21-0831V

6. Lisa Carter, Woodbridge, Virginia, Court of Federal Claims No: 21-0832V

7. Laurie Marowski on behalf of A. M., Phoenix, Arizona, Court of Federal Claims No: 21-0834V

8. Jason Gaskin and Tabitha Gaskin on behalf of Jason Gaskin, Jr., Deceased, Rancho Santa Margarita, California, Court of Federal Claims No: 21-0835V

9. Laurie Blake, Washington, District of Columbia, Court of Federal Claims No: 21-0837V

10. Jason Groves, Port Angeles, Washington, Court of Federal Claims No: 21-0838V

11. Denise Oldoni, Augusta, Georgia, Court of Federal Claims No: 21-0839V

12. Tony Moye, Madisonville, Texas, Court of Federal Claims No: 21-0841V

13. Hema Mullur, Austin, Texas, Court of Federal Claims No: 21-0842V

14. Barbara Langburt, Washington, District of Columbia, Court of Federal Claims No: 21-0843V

15. Paul Longo, Washington, District of Columbia, Court of Federal Claims No: 21-0844V

16. Joseph Ned Martinez, Washington, District of Columbia, Court of Federal Claims No: 21-0845V

17. Kimberly Albury, Tampa, Florida, Court of Federal Claims No: 21-0846V

18. Oscar Garner, Milwaukee, Wisconsin, Court of Federal Claims No: 21-0847V

19. Phillip Herrera, Milwaukee, Wisconsin, Court of Federal Claims No: 21-0849V

20. Ivan Boyd, Boston, Massachusetts, Court of Federal Claims No: 21-0850V

21. James D. Woodcock, Greenfield, Indiana, Court of Federal Claims No: 21-0851V

22. Rosalind Paaswell, Boston, Massachusetts, Court of Federal Claims No: 21-0853V

23. Virginia McGee, Boston, Massachusetts, Court of Federal Claims No: 21-0854V

24. Beverly Dye, Newtown, Pennsylvania, Court of Federal Claims No: 21-0855V

25. Yolanda Henderson, Dresher, Pennsylvania, Court of Federal Claims No: 21-0857V

26. Anna Miller and Matthew Miller on behalf of A. M., San Diego, California, Court of Federal Claims No: 21-0858V

27. Alexis Lainez on behalf of Noah Greyson Montoya, Deceased, Apple Valley, California, Court of Federal Claims No: 21-0859V

28. Celeste Bodenbender, Washington, District of Columbia, Court of Federal Claims No: 21-0860V

29. Phyllis K. Alexander, Greensboro, North Carolina, Court of Federal Claims No: 21-0861V

30. Adelyn Diaz De La Rocha, Washington, District of Columbia, Court of Federal Claims No: 21-0862V

31. Ana Rivera Rodriguez, San Juan, Puerto Rico, Court of Federal Claims No: 21-0865V

32. Naomi DeLeon on behalf of N. R., Austin, Texas, Court of Federal Claims No: 21-0866V

33. Allen Bickel, Boston, Massachusetts, Court of Federal Claims No: 21-0867V

34. Darlene Cucinotta, Clermont, Florida, Court of Federal Claims No: 21-0868V

35. Dawn Maxfield, Palm Bay, Florida, Court of Federal Claims No: 21-0869V

36. Dominick Vanore, Reno, Nevada, Court of Federal Claims No: 21-0870V

37. Michelle Mason, Pompano Beach, Florida, Court of Federal Claims No: 21-0871V

38. David Titus, Washington, District of Columbia, Court of Federal Claims No: 21-0875V

39. Mike Rodriguez, Las Vegas, Nevada, Court of Federal Claims No: 21-0876V

40. Jerry D. Keller, Richmond, Kentucky, Court of Federal Claims No: 21-0879V

41. Gina Schueler, Richmond, Kentucky, Court of Federal Claims No: 21-0880V

42. Zehra Rizvi, Irmo, South Carolina, Court of Federal Claims No: 21-0881V

43. Douglas Arricale, Phoenix, Arizona, Court of Federal Claims No: 21-0882V

44. Graham Wilkinson, Washington, District of Columbia, Court of Federal Claims No: 21-0883V

45. Sherry Jeffries Compton on behalf of Joyce E. Jeffries, Memphis, Tennessee, Court of Federal Claims No: 21-0884V

46. Dennis Franklin, Springfield, Minnesota, Court of Federal Claims No: 21-0885V

47. Emilia Ostrowska, Houston, Texas, Court of Federal Claims No: 21-0886V

48. Krystal Layman, Chillicothe, Ohio, Court of Federal Claims No: 21-0887V

49. Margaret Craig, Madisonville, Texas, Court of Federal Claims No: 21-0889V

50. Paul Bishop, Rochester, New York, Court of Federal Claims No: 21-0891V

51. Abraham Scott, Flowood, Mississippi, Court of Federal Claims No: 21-0892V

52. Frank Mares, West Covina, California, Court of Federal Claims No: 21-0893V

53. Kathleen G. McKenna, Spokane, Wisconsin, Court of Federal Claims No: 21-0895V

54. Arlene Bourne, Washington, District of Columbia, Court of Federal Claims No: 21-0899V

55. Della McKeehan, Collierville, Tennessee, Court of Federal Claims No: 21-0900V

56. Margot Meissner, Boston, Massachusetts, Court of Federal Claims No: 21-0901V

57. Ingraham Hanahan, Washington, District of Columbia, Court of Federal Claims No: 21-0902V

58. Brandy Romeo, Dresher, Pennsylvania, Court of Federal Claims No: 21-0903V

59. Muhand Haddad, Downers Grove, Illinois, Court of Federal Claims No: 21-0904V

60. Samantha Brotman, New York, New York, Court of Federal Claims No: 21-0905V

61. Carol Cabral, Girard, Pennsylvania, Court of Federal Claims No: 21-0906V

62. Sandra Williams, Woodbridge, Virginia, Court of Federal Claims No: 21-0907V

63. Patricia Merrill, Charlotte, North Carolina, Court of Federal Claims No: 21-0908V

64. Brenda White, North Lincoln, Kansas, Court of Federal Claims No: 21-0909V

65. Jennifer Hamilton, Memphis, Tennessee, Court of Federal Claims No: 21-0910V

66. Kayla Brown, Chesapeake, Virginia, Court of Federal Claims No: 21-0912V

67. Barbara Kelly, Gainesville, Georgia, Court of Federal Claims No: 2, Colleen Marie Medlock, Hillsboro, Oregon, Court of Federal Claims No: 21-0915V

69. Diane Blouin, Boston, Massachusetts, Court of Federal Claims No: 21-0919V

70. Amy Lalla, Cortland, New York, Court of Federal Claims No: 21-0920V

71. Michael R. Lueck, Greenfield, Wisconsin, Court of Federal Claims No: 21-0923V

72. Christian M. Gatto, Linwood, New Jersey, Court of Federal Claims No: 21-0924V

73. Juan F. Ruiz, Jr., Boscobel, Wisconsin, Court of Federal Claims No: 21-0927V

74. Carissa Fetters, Phoenix, Arizona, Court of Federal Claims No: 21-0928V

75. Amy Congilose, Matthews, North Carolina, Court of Federal Claims No: 21-0929V

76. Jennifer Kane, Boalsburg, Pennsylvania, Court of Federal Claims No: 21-0930V

77. Marc Clodfelter, Washington, District of Columbia, Court of Federal Claims No: 21-0931V

78. Hawke M. Strickland, Waupin, Wisconsin, Court of Federal Claims No: 21-0932V

79. Kimberly A. MacFeggan, Collierville, Tennessee, Court of Federal Claims No: 21-0933V

80. Claudia Garcia on behalf of G. G., Oklahoma City, Oklahoma, Court of Federal Claims No: 21-0934V

81. Katherine O'Brien, Tinton Falls, New Jersey, Court of Federal Claims No: 21-0936V

82. Robert Willis, Bluffton, South Carolina, Court of Federal Claims No: 21-0938V

83. Es Mae Rose, Pendleton, Oregon, Court of Federal Claims No: 21-0939V

84. Jeannie Lowery, Greensboro, North Carolina, Court of Federal Claims No: 21-0940V

85. Gwendolyn Pilgrim, Washington, District of Columbia, Court of Federal Claims No: 21-0941V

86. Vienna Giglio, Eastchester, New York, Court of Federal Claims No: 21-0942V

87. James Russell, Allen Park, Michigan, Court of Federal Claims No: 21-0943V

88. Sharon Dewyea, Washington, District of Columbia, Court of Federal Claims No: 21-0944V

89. Justin Hock, Baltimore, Maryland, Court of Federal Claims No: 21-0945V

90. Clemmie L. Johnson, Boscobel, Wisconsin, Court of Federal Claims No: 21-0946V

91. Antonio J. Smith, Boscobel, Wisconsin, Court of Federal Claims No: 21-0947V

92. James Cantafio, Danbury, Connecticut, Court of Federal Claims No: 21-0948V

93. Emma Fox, Exton, Pennsylvania, Court of Federal Claims No: 21-0949V

94. Tammy Bosford, Queensbury, New York, Court of Federal Claims No: 21-0950V

95. Thom Demicco, Loma Linda, California, Court of Federal Claims No: 21-0951V

96. Debra White, Pacific Grove, California, Court of Federal Claims No: 21-0952V

97. Tremayne D. Edwards, Milwaukee, Wisconsin, Court of Federal Claims No: 21-0954V

98. Debra Law, St. Louis, Missouri, Court of Federal Claims No: 21-0956V

99. Isaiah Jacobs, Scottsdale, Arizona, Court of Federal Claims No: 21-0957V

100. Glorianna Rennish, Sheboygan, Wisconsin, Court of Federal Claims No: 21-0959V

101. Jeffrey Flynn, Sunnyside, New York, Court of Federal Claims No: 21-0960V

102. Steven Marshall, Ruckersville, Virginia, Court of Federal Claims No: 21-0961V

103. Margaret Spencer, Washington, District of Columbia, Court of Federal Claims No: 21-0962V

104. Elizabeth Fagan, Beverly Hills, California, Court of Federal Claims No: 21-0963V

105. Nancy Stolze, Beverly Hills, California, Court of Federal Claims No: 21-0964V

106. Andera Smith, Beverly Hills, California, Court of Federal Claims No: 21-0965V

107. Thomas K. O'Connor, New York, New York, Court of Federal Claims No: 21-0966V

108. Alberto S. Galvan, Waupun, Wisconsin, Court of Federal Claims No: 21-0967V

109. Felicia Sanchez, Dallas, Texas, Court of Federal Claims No: 21-0968V

110. Jacqueline Clancy, Ellicott City, Maryland, Court of Federal Claims No: 21-0969V

111. Magdalena Fernandez, Dallas, Texas, Court of Federal Claims No: 21-0970V

112. Todd Katz, Dallas, Texas, Court of Federal Claims No: 21-0971V

113. Kathaleen Lang, Dallas, Texas, Court of Federal Claims No: 21-0972V

114. Ulrike Mathilde Mueller-Sprout, Dallas, Texas, Court of Federal Claims No: 21-0973V

115. Sandra Camacho, Dallas, Texas, Court of Federal Claims No: 21-0974V

116. Andres Visconde, Washington, District of Columbia, Court of Federal Claims No: 21-0977V

117. Liza Orban, Utica, Michigan, Court of Federal Claims No: 21-0978V

118. Kimberly Axelrod, Arlington, Virginia, Court of Federal Claims No: 21-0980V

119. Yazmin Soto, New York, New York, Court of Federal Claims No: 21-0981V

120. Chih-Jung Chen, Rochester, New York, Court of Federal Claims No: 21-0982V

121. Kevin Lange, Buffalo, New York, Court of Federal Claims No: 21-0983V

122. Jillian C. Beccia, Farmington Hills, Michigan, Court of Federal Claims No: 21-0984V

123. Pamela Clemente, Pittsburgh, Pensylvania, Court of Federal Claims No: 21-0985V

124. John W. Vance, Conway, Arkansas, Court of Federal Claims No: 21-0986V

125. Teresa Scarborough, Tustin, California, Court of Federal Claims No: 21-0987V

126. Wolfgang R. Moenig and Martina Moenig on behalf of M. M., Farmington Hills, Michigan, Court of Federal Claims No: 21-0993V

127. Steve Marshall, Englewood, New Jersey, Court of Federal Claims No: 21-0997V

128. Esperanza Perez, Englewood, New Jersey, Court of Federal Claims No: 21-0998V

129. Lacy Cloud, Cheyenne, Wyoming, Court of Federal Claims No: 21-0999V

130. Ashley Parmer, Phoenix, Arizona, Court of Federal Claims No: 21-1000V

131. Brenna Benjamin on behalf of L. J. R., Ellicott City, Maryland, Court of Federal Claims No: 21-1001V

132. Jillian Fishburn, Phoenix, Arizona, Court of Federal Claims No: 21-1002V

133. Evelyn Gonzalez, Woodbridge, Illinois, Court of Federal Claims No: 21-1003V

134. Aryel Vezzose, Phoenix, Arizona, Court of Federal Claims No: 21-1004V

135. Beverly Williams, Richardson, Texas, Court of Federal Claims No: 21-1006V

[FR Doc. 2021-05350 Filed 3-15-21; 8:45 am]

BILLING CODE 4165-15-P